DEPARTMENT OF TRANSPORTATION

National Highway Traffic Safety Administration

[NHTSA Docket No. NHTSA-2010-0136]

National Emergency Medical Services Advisory Council (NEMSAC); Teleconference Meeting

AGENCY: National Highway Traffic Safety Administration (NHTSA), Department of Transportation (DOT).

ACTION: Notice of Teleconference Meeting.

SUMMARY: The NHTSA announces a teleconference meeting of NEMSAC to be held in October 2010. This notice announces the date, time and call-in information for the meeting, which will be open to the public. The purpose of NEMSAC is to serve as a nationally recognized council of emergency medical services representatives and consumers to provide advice and recommendations regarding Emergency Medical Services (EMS) to the U.S. DOT's NHTSA.

DATES: The teleconference meeting will be held on October 26, 2010, from 1 p.m. to 5 p.m., EDT. A public comment period will take place on October 26, 2010, between 4 p.m. to 4:15 p.m.

Comment Date: Written comments or requests to make oral presentations must be received by October 19, 2010.

ADDRESSES: The meeting will be held via teleconference only. Members of the public who wish to obtain the call-in number, access code, and other information for the teleconference may contact Drew Dawson as listed in the FOR FURTHER INFORMATION CONTACT section by October 19, 2010. Persons may request time to make an oral presentation. Persons may also submit written comments. Written comments and requests to make oral presentations at the meeting should reach Drew Dawson at the address listed below or via the Document Management System and must be received by October 19, 2010.

All submissions received must include the docket number, NHTSA-2010-0136, and may be submitted by any one of the following methods: (1) You may submit or retrieve comments online through the Document Management System (DMS) at http://www.regulations.gov/ under the docket number listed at the beginning of this notice. The DMS is available 24 hours each day, 365 days each year. Electronic submission and retrieval help guidelines are available under the help section of the Web site; (2) you may submit comments by E-mail to drew.dawson@dot.gov or noah.smith@dot.gov; or (3) you may submit comments by Fax to (202) 366-7149.

An electronic copy of this document may be downloaded from the Federal Register's home page at http://www.archives.gov and the Government Printing Office's database at http://www.access.gpo.gov/nara.

Please note, that even after the comment closing date, we will continue to file relevant information in the docket as it becomes available.

FOR FURTHER INFORMATION CONTACT: Drew Dawson, Director, Office of Emergency Medical Services, National Highway Traffic Safety Administration, 1200 New Jersey Avenue, SE., NTI-140, Washington, DC 20590,Telephone number (202) 366-9966; E-mail Drew.Dawson@dot.gov.

SUPPLEMENTARY INFORMATION: Notice of this meeting is given under the Federal Advisory Committee Act (FACA), Public Law 92-463, as amended (5 U.S.C. App. 1 et seq.) The NEMSAC will hold a meeting on Tuesday, October 26, 2010, via teleconference.

Agenda of Council Teleconference Meeting, October 26, 2010

The tentative agenda includes the following:

Tuesday, October 26, 2010

(1) Opening Remarks—Chair and Designated Federal Officer;

(2) Introduction of Members and all in attendance;

(3) Federal Advisory Council Act Overview;

(4) NHTSA Office of EMS Overview;

(5) Other Federal agency EMS activities;

(6) FICEMS Overview;

(7) Public Comment Period;

(8) Next Steps and Future Meetings.

While the entire meeting is open to the public, the public comment period will take place on October 26, 2010, between 4 p.m. and 4:15 p.m.

Public Attendance: The meeting is open to the public. Persons with disabilities who require special assistance should advise Drew Dawson of their anticipated special needs as early as possible. Members of the public who wish to make comments on Tuesday, October 26, between 4 p.m. and 4:15 p.m. are requested to register in advance. In order to allow as many people as possible to speak, speakers are requested to limit their remarks to 3 minutes. For those wishing to submit written comments, please follow the procedure noted above.

Individuals wishing to register for attendance in the teleconference must provide their name, affiliation, phone number, and e-mail address to Drew Dawson by e-mail at drew.dawson@dot.gov or by telephone at (202) 366-9966 no later than October 19, 2010. There will be limited call-in lines, so please register early. Pre-registration is necessary to enable proper arrangements.

Minutes of the NEMSAC Meeting will be available to the public online through the DOT Document Management System (DMS) at: http://www.regulations.gov under the docket number listed at the beginning of this notice and on http://www.ems.gov

Issued on: October 1, 2010.
Jeffrey P. Michael,
Associate Administrator for Research and Program Development.

[FR Doc. 2010-25164 Filed 10-5-10; 8:45 am]

BILLING CODE 4910-59-P